INTERNATIONAL TRADE COMMISSION

[Investigation No. 337-TA-1230]

Certain Electric Shavers and Components and Accessories Thereof; Notice of a Commission Determination Not To Review an Initial Determination Granting a Motion To Amend the Complaint and Notice of Investigation

AGENCY: U.S. International Trade Commission.

ACTION: Notice.

SUMMARY: Notice is hereby given that the U.S. International Trade Commission (“Commission”) has determined not to review an initial determination (“ID”) (Order No. 8) of the presiding administrative law judge (“ALJ”), granting a motion by Complainant Skull Shaver, LLC (“Skull Shaver”) to amend the complaint and notice of investigation to clarify the names of certain respondents and to correct the names of certain respondents.

FOR FURTHER INFORMATION CONTACT: Panyin A. Hughes, Office of the General Counsel, U.S. International Trade Commission, 500 E Street SW, Washington, DC 20436, telephone (202) 205-3179. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal, telephone (202) 205-1810.

SUPPLEMENTARY INFORMATION: On November 18, 2020, the Commission instituted this investigation based on a complaint filed by Skull Shaver of Moorestown, New Jersey. 85 FR 73510-11 (Nov. 18, 2020). The complaint alleged violations of section 337 of the Tariff Act of 1930, as amended, 19 U.S.C. 1337, based on the importation into the United States, the sale for importation, or the sale within the United States after importation of certain electric shavers and components and accessories thereof by reason of infringement of certain claims of U.S. Patent Nos. 8,726,528 and D672,504. Id. The Commission's notice of investigation named the following eleven entities as respondents: Rayenbarny Inc. (“Rayenbarny”) of New York, New York; Bald Shaver Inc. of Toronto, Canada; Suzhou Kaidiya Garments Trading Co., Ltd. d.b.a. “Digimator” of Suzhou, China; Shenzhen Aiweilai Trading Co., Ltd. d.b.a. “Teamyo” of Shenzhen, China; Wenzhou Wending Electric Appliance Co., Ltd. of Yueqing City, China; Shenzhen Nukun Technology Co., Ltd. d.b.a. “OriHea” of Shenzhen, China; Yiwu Xingye Network Technology Co. Ltd. d.b.a. “Roziapro” of Yiwu, China; Magicfly LLC of Hong Kong; Yiwu City Qiaoyu Trading Co., Ltd. of Yiwu, China; Shenzhen Wantong Information Technology Co., Ltd. d.b.a. “WTONG” of Shenzhen, China; and Shenzhen Junmao International Technology Co., Ltd. d.b.a. “Homeas” of Shenzhen, China. The notice of investigation also named the Office of Unfair Import Investigations as a party. Id.

On November 30, 2020, the ALJ granted an unopposed motion (1) allowing Benepuri LLC (“Benepuri”) of Menands, New York to intervene in this investigation as a respondent and (2) terminating the investigation as to Rayenbarny. Order No. 4 (Nov. 30, 2020), unreviewed by Comm'n Notice (Dec. 15, 2020).

On February 5, 2021 (docketed on February 8), Skull Shaver moved under 19 CFR 210.14 to amend the Complaint and the Notice of Investigation (“NOI”) to reflect the correct names and address of certain respondents as follows: (1) Clarify that the name of Wenzhou Wending Electric Appliance Co., Ltd. d.b.a. “Paitree” is Wenzhou Wending Electric Appliance Co., Ltd., and correct its address to No. 29 Yangliu Road, Economic and Technological Development Zone, Wenzhou, Zhejiang, 325025 China; (2) correct the address of Yiwu Xingye Network Technology Co. Ltd. d.b.a. “Roziapro” to Room 1607, Tower A, Jinfuyuan Bldg., Choucheng Street, Yiwu, Zhejiang, 322001 China; (3) correct the address of Magicfly LLC to 525 N. Tyron Street, Fl. 16, Suite 1727, Charlotte, North Carolina 28202; (4) clarify that the name of Yiwu City Qiaoyu Trading Co., Ltd. d.b.a. “Surker” is Yiwu City Qiaoyu Trading Co., Ltd., and correct its address to Room 401, No. 2, Building 33, Duyuan Village, Houzhai Street, Yiwu, Zhejiang, 322008 China; (5) correct the address of Shenzhen Junmao International Technology Co., Ltd. d.b.a. “Homeasy” to Room 405&406&408, Block 1, Mingliang Science Park, No. 88, North Zhuguang Road, Pingshan Community, Taoyuan Street, Nanshan District, Shenzhen, Guangdong, 518071, China; and (6) clarify that Benepuri's address is 1060 Broadway, Menands, NY 12204. Skull Shaver states that “good cause exists to correct the names and addresses of the foregoing Respondents based on information Complainant learned after institution.” Skull Shaver Motion at 5. No responses to the motion were filed.

On February 12, 2021, the ALJ granted the motion (Order No. 8, subject ID). The ID states that “For good cause shown, and because there is no opposition, Skull Shaver's Motion” is granted. Order No. 8 at 2. No one petitioned for review of the subject ID.

The Commission has determined not to review the subject ID. The Commission notes that the Federal Register NOI lists the correct names for Wenzhou Wending Electric Appliance Co., Ltd. and Yiwu City Qiaoyu Trading Co., Ltd. Thus, this ID simply reflects the names used in the Amended Complaint (where the corresponding d/b/a designations have been removed). In addition, regarding Benepuri, this ID merely reflects in the Amended Complaint that it has been substituted for Rayenbarny.

The Commission vote for this determination took place on March 11, 2021.

The authority for the Commission's determination is contained in section 337 of the Tariff Act of 1930, as amended (19 U.S.C. 1337), and in Part 210 of the Commission's Rules of Practice and Procedure (19 CFR part 210).

By order of the Commission.
Issued: March 11, 2021.
Lisa Barton,
Secretary to the Commission.

[FR Doc. 2021-05469 Filed 3-16-21; 8:45 am]

BILLING CODE 7020-02-P